DEPARTMENT OF COMMERCE

National Oceanic and Atmospheric Administration

50 CFR Parts 223 and 224

[Docket No. 250212-0015; RTID 0648-XR126]

Endangered and Threatened Wildlife and Plants: Reclassification of Pillar Coral (Dendrogyra cylindrus) From Threatened to Endangered

AGENCY: National Marine Fisheries Service (NMFS), National Oceanic and Atmospheric Administration (NOAA), Commerce.

ACTION: Final rule; delay of effective date.

SUMMARY: In accordance with the memorandum of January 20, 2025, from President Donald J. Trump, entitled “Regulatory Freeze Pending Review,” published in the Federal Register on January 28, 2025, this action delays the effective date of the final rule NMFS published in the Federal Register on December 17, 2024, regarding the reclassification of the pillar coral (Dendrogyra cylindrus) on the Federal List of Threatened and Endangered Species.

DATES: As of February 18, 2025, the effective date of the final rule amending 50 CFR parts 223 and 224, that published on December 17, 2024, at 89 FR 101993, is delayed until March 21, 2025.

FOR FURTHER INFORMATION CONTACT: Lisa Manning, NMFS, Office of Protected Resources, 301-427-8466, lisa.manning@noaa.gov.

SUPPLEMENTARY INFORMATION:

Background

In early 2021, we announced a 5-year review of multiple Caribbean coral species, including the pillar coral, D. cylindrus, to determine whether the listing classifications of these species were still accurate (86 FR 1091, January 7, 2021). Based on the findings of the 5-year review, we published a proposed rule to change the classification of the pillar coral from a threatened to an endangered species (88 FR 59494, August 29, 2023). We solicited peer review of the scientific information contained in the proposed rule from three independent experts from the scientific community who have expertise in pillar coral biology, ecology, conservation, and threats to the species; and we incorporated their comments prior to publication of the proposed rule. We requested comments on the proposed rule from the public during a 60-day comment period and held a virtual public hearing on September 26, 2023, at which we also accepted public comments. On December 17, 2024, we published a final rule to reclassify the pillar coral (D. cylindrus) from a threatened to an endangered species on the Federal List of Threatened and Endangered Species (89 FR 101993). That final rule was based on the information in the 5-year review, peer reviews, and public comments.

On January 20, 2025, the White House issued a memorandum instructing Federal agencies to temporarily postpone the effective date for 60 days after January 20, 2025, of any rules that had published in the Federal Register but not yet taken effect, for the purpose of “reviewing any questions of fact, law, and policy that the rules may raise” (90 FR 8249, January 28, 2025). In accordance with this memorandum, this action delays the effective date of the final rule NMFS published on December 17, 2024, at 89 FR 101993, until March 21, 2025.

List of Subjects

50 CFR Part 223

Endangered and threatened species, Exports, Imports, Transportation.

50 CFR Part 224

Administrative practice and procedure, Endangered and threatened species, Exports, Imports, Reporting and recordkeeping requirements, Transportation.

Dated: February 12, 2025.
Samuel D. Rauch, III,
Deputy Assistant Administrator for Regulatory Programs, National Marine Fisheries Service.

[FR Doc. 2025-02728 Filed 2-14-25; 8:45 am]

BILLING CODE 3510-22-P